DEPARTMENT OF COMMERCE

National Institute of Standards and Technology

Termination of a Selected National Voluntary Laboratory Accreditation Program (NVLAP) Service

AGENCY: National Institute of Standards and Technology (NIST), Department of Commerce.

ACTION: Notice.

SUMMARY: The National Institute of Standards and Technology's (NIST) National Voluntary Laboratory Accreditation Program (NVLAP) announces the termination of the Wood-Based Products Testing Laboratory Accreditation Program (LAP) offered by NVLAP. The Wood-Based Products Testing LAP includes the following areas of testing: chemical, physical, mechanical, fire performance, formaldehyde, and treated-wood characteristics.

DATES: The Wood-Based Products Testing LAP will be terminated upon publication of this notice.

ADDRESSES: Dana Leaman, Chief, National Voluntary Laboratory Accreditation Program, National Institute of Standards and Technology, 100 Bureau Drive, Stop 2140, Gaithersburg, MD 20899-2140; email: nvlap@nist.gov.

FOR FURTHER INFORMATION CONTACT: Dana Leaman, Chief, National Voluntary Laboratory Accreditation Program, (301) 975-4016; email: nvlap@nist.gov.

SUPPLEMENTARY INFORMATION: NIST administers NVLAP under regulations found in 15 CFR part 285. NVLAP provides an unbiased third-party evaluation and recognition of laboratory performance, as well as expert technical assistance to upgrade that performance, by accrediting calibration and testing laboratories found competent to perform specific calibrations or tests.

NVLAP is comprised of a set of Laboratory Accreditation Programs (LAPs) that are established on the basis of requests and demonstrated need. Each LAP includes specific test and/or calibration standards and related methods and protocols assembled to satisfy the unique needs for accreditation in the field of testing or calibration.

Under 15 CFR part 285, the Chief of NVLAP may terminate a LAP when it is determined that a need no longer exists to accredit laboratories for the services covered under the scope of the LAP. The Wood-Based Products Testing LAP includes the following areas of testing: chemical, physical, mechanical, fire performance, formaldehyde, and treated-wood characteristics. The purpose of this program is to supply unbiased third-party evaluation and attestation of testing competence of manufacturer and independent testing laboratories in the given fields. A review of the Wood-Based Products Testing LAP revealed that there are no longer any laboratories enrolled in the program. Given this lack of participation, it is unnecessary and not cost effective to continue this LAP. As a result of this review, the Chief of NVLAP has determined there is no longer exists a need to continue the Wood-Based Products Testing LAP. NVLAP will no longer grant or renew accreditations under the terminated program effective upon publication of this notice.

Alicia Chambers,
NIST Executive Secretariat.

[FR Doc. 2023-10063 Filed 5-10-23; 8:45 am]

BILLING CODE 3510-13-P